DEPARTMENT OF VETERANS AFFAIRS

[OMB Control No. 2900-New (VA Form 10-0513)]

Proposed Information Collection (Veteran Suicide Prevention Online Quantitative Surveys) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments to support outreach efforts on the prevention of suicide among Veterans and their families.

DATES: Written comments and recommendations on the proposed collection of information should be received on or before April 19, 2011.

ADDRESSES: Submit written comments on the collection of information through the Federal Docket Management System (FDMS) at http://www.Regulations.gov; or to Cynthia Harvey-Pryor, Veterans Health Administration (193E1), Department of Veterans Affairs, 810 Vermont Avenue, NW., Washington, DC 20420 or e-mail: cynthia.harvey-pryor@va.gov. Please refer to “2900-New (VA Form 10-0513)” in any correspondence. During the comment period, comments may be viewed online through FDMS.

FOR FURTHER INFORMATION CONTACT: Cynthia Harvey-Pryor (202) 461-5870 or FAX (202) 273-9387.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. Veterans Online Survey, VA Form 10-0513:

b. Veterans Family Online Survey, VA Form 10-0513a.

c. Veterans Primary Care Provider Online Survey, VA Form 10-0513b.

OMB Control Number: 2900-New (VA Form 10-0513).

Type of Review: New collection.

Abstract: VA's top priority is the prevention of Veterans suicide. It is imperative to reach these at-risk populations with proactive and trust-worthy communications and focused and effective outreach activities. As a part of this outreach, VA will collect information from Veterans, primary care providers and families of veterans. Data collected on the surveys will be used to better understand Veterans and their families' awareness of VA's suicide prevention and mental health support services. In addition, the surveys will help gauge how Veterans view the need for and willingness to accept help when in crises or contemplating suicide.

Affected Public: Individuals and Households.

Estimated Annual Burden

a. Veterans Online Survey, VA Form 10-0513-300 hours.

b. Veterans Family Online Survey, VA Form 10-0513a-300 hours.

c. Veterans Primary Care Provider Online Survey, VA Form 10-0513b-300 hours.

Estimated Average Burden per Respondent

a. Veterans Online Survey, VA Form 10-0513-30 mins.

b. Veterans Family Online Survey, VA Form 10-0513a-30 mins.

c. Veterans Primary Care Provider Online Survey, VA Form 10-0513b-30 mins.

Frequency of Response: Annually.

Estimated Number of Respondents

a. Veterans Online Survey, VA Form 10-0513-600.

b. Veterans Family Online Survey, VA Form 10-0513a-600.

c. Veterans Primary Care Provider Online Survey, VA Form 10-0513b-600.

Dated: February 14, 2011.
By direction of the Secretary.
Denise McLamb,
Program Analyst, Enterprise Records Service.

[FR Doc. 2011-3648 Filed 2-17-11; 8:45 am]

BILLING CODE 8320-01-P